DEPARTMENT OF THE INTERIOR

Fish and Wildlife Service

[FWS-HQ-MB-2015-N012; 91100-3740-GRNT 7C]

Meeting Announcement: Neotropical Migratory Bird Conservation Advisory Group

AGENCY: Fish and Wildlife Service, Interior.

ACTION: Notice of teleconference.

SUMMARY: The Advisory Group for the Neotropical Migratory Bird Conservation Act (NMBCA) grants program (Advisory Group) will meet via telephone to follow up on agenda items from the December 10, 2014, meeting and to discuss strategic direction of the NMBCA program and Advisory Group. This teleconference is open to the public, and interested persons may present oral or written statements.

DATES: The teleconference is scheduled for March 18, 2015, at 1 p.m. If you are interested in presenting information at this public meeting, contact the Advisory Group Coordinator no later than March 12, 2015.

ADDRESSES: Although this meeting is conference call, local Advisory Group members may convene at U.S. Fish and Wildlife Service Headquarters, 5275 Leesburg Pike, Falls Church, Virginia 22041. Participants should call the toll-free number 866-692-4541; when prompted, enter participant passcode 51659890.

FOR FURTHER INFORMATION CONTACT: Michael Kreger, Acting Advisory Group Coordinator, by phone at 703-358-1784; by email at dbhc@fws.gov; or by U.S. mail at U.S. Fish and Wildlife Service, 5275 Leesburg Pike MS: MB, Falls Church, Virginia 22041.

SUPPLEMENTARY INFORMATION:

About the Advisory Group

In accordance with NMBCA (Pub. L. 106-247, 114 Stat. 593, July 20, 2000), the Advisory Group typically meets once a year to discuss the strategic direction and management of the NMBCA program and provide advice to the Director of the Fish and Wildlife Service.

About NMBCA

The Neotropical Migratory Bird Conservation Act of 2000 promotes long-term conservation of Neotropical migratory birds and their habitats through a competitive grants program by promoting partnerships and local conservation efforts, and achieving habitat protection in 36 countries. The goals of NMBCA include perpetuating healthy bird populations, providing financial resources for bird conservation, and fostering international cooperation. Because the greatest conservation need is south of the U.S. border, the Act requires that at least 75 percent of NMBCA funding supports projects outside the United States.

Project proposal due dates, application instructions, and eligibility requirements are available on the NMBCA Web site at http://www.fws.gov/birdhabitat/Grants/NMBCA.

Public Input
If you wish to: | You must contact the Acting Advisory Group Coordinator (see FOR FURTHER INFORMATION CONTACT) no later than:
(1) Participate in the Advisory Group conference call | March 17, 2015.
(2) Submit written information or questions before the Advisory Group conference call for consideration during the call | March 12, 2015.

Submitting Written Information or Questions

Interested members of the public may submit relevant information or questions for the Advisory Group to consider during the public meeting. If you wish to submit a written statement, so that the information may be made available to the Advisory Group for their consideration prior to this meeting, you must contact the Acting Advisory Group Coordinator by the date above. Written statements must be supplied to the Acting Advisory Group Coordinator in both of the following formats: One hard copy with original signature, and one electronic copy via email (acceptable file formats are Adobe Acrobat PDF, MS Word, MS PowerPoint, or rich text file).

Giving an Oral Presentation

Individuals or groups requesting to make an oral presentation at the meetings will be limited to 2 minutes per speaker, with no more than a total of 20 minutes for all speakers. Interested parties should contact the Acting Advisory Coordinator by the date above, in writing (preferably via email; see FOR FURTHER INFORMATION CONTACT), to be placed on the public speaker list. Nonregistered public speakers will not be considered during the Advisory Group meeting. Registered speakers who wish to expand upon their oral statements, or those who had wished to speak but could not be accommodated on the agenda, are invited to submit written statements to the Advisory Group within 30 days following the meeting.

Meeting Minutes

Summary minutes of the Advisory Group meeting will be maintained by the Acting Advisory Group Coordinator at the address under FOR FURTHER INFORMATION CONTACT. Meeting notes will be available by contacting the Acting Advisory Group Coordinator within 30 days following the meeting. Personal copies may be purchased for the cost of duplication.

Michael Johnson,
Deputy Assistant Director, Migratory Birds.

[FR Doc. 2015-00851 Filed 1-20-15; 8:45 am]

BILLING CODE 4310-55-P